ARCHITECTURAL AND TRANSPORTATION BARRIERS COMPLIANCE BOARD

36 CFR Parts 1190 and 1191

[Docket No. 2007-04]

Accessibility Guidelines for Emergency Transportable Housing

AGENCY: Architectural and Transportation Barriers Compliance Board.

ACTION: Notice of intent to establish advisory committee.

SUMMARY: The Architectural and Transportation Barriers Compliance Board (Access Board) proposes to establish a Federal advisory committee to develop a proposed rule on accessibility guidelines for emergency transportable housing covered by the Americans with Disabilities Act and the Architectural Barriers Act. The Access Board invites comments on the proposal to establish the advisory committee and the proposed committee membership.

DATES: Comments and applications should be received by July 25, 2007.

ADDRESSES: You may submit comments and applications, identified by Docket No. 2007-04, by any of the following methods:

• Federal eRulemaking Portal: http://www.regulations.gov. Follow the instructions for submitting comments.

• E-mail: mazz@access-board.gov. Include Docket No. 2007-04 in the subject line of the message.

• Fax: (202) 272-0081.

• Mail or Hand Delivery: Office of Technical and Information Services, Architectural and Transportation Barriers Compliance Board, 1331 F Street, NW., Suite 1000, Washington, DC 20004-1111.

All submissions received must include the agency name and docket number for this rulemaking. Comments will also be available for inspection at the above address from 9 a.m. to 5 p.m. on regular business days.

FOR FURTHER INFORMATION CONTACT: Marsha Mazz, Office of Technical and Information Services, Architectural and Transportation Barriers Compliance Board, 1331 F Street, NW., Suite 1000, Washington, DC 20004-1111. Telephone number (202) 272-0020 (Voice); (202) 272-0082 (TTY). These are not toll-free numbers. E-mail address: mazz@access-board.gov.

SUPPLEMENTARY INFORMATION: The Architectural and Transportation Barriers Compliance Board (Access Board or Board) ¹ is responsible for developing accessibility guidelines under the Americans with Disabilities Act (ADA) and the Architectural Barriers Act (ABA) to ensure that newly constructed and altered facilities covered by these laws are readily accessible to and usable by individuals with disabilities. In July 2004, the Access Board published revised accessibility guidelines for facilities covered by the ADA and ABA. 69 FR 44084 (July 23, 2004). The guidelines update accessibility requirements for a wide range of facilities in the public and private sectors. The ADA and ABA Accessibility Guidelines contain ADA scoping (Chapters 1 and 2), ABA scoping (Chapters F1 and F2) and common technical provisions (Chapters 3 through 10) and for the first time contain technical and scoping provisions for both transient lodging and residential dwelling units.

¹ The Access Board is an independent Federal agency established by section 502 of the Rehabilitation Act (29 U.S.C. 792) whose primary mission is to promote accessibility for individuals with disabilities. The Access Board consists of 25 members. Thirteen are appointed by the President from among the public, a majority of who are required to be individuals with disabilities. The other twelve are heads of the following Federal agencies or their designees whose positions are Executive Level IV or above: The Departments of Health and Human Services, Education, Transportation, Housing and Urban Development, Labor, Interior, Defense, Justice, Veterans Affairs, and Commerce; General Services Administration; and United States Postal Services.

The ADA and ABA Accessibility Guidelines did not anticipate the challenges associated with providing accessible and usable dwelling units which will meet structural and transportation criteria permitting them to be transported across roadways and to be installed in yards or on group trailer sites for emergency use. Therefore, the Access Board wishes to revisit the scoping provisions and technical criteria for residential dwelling units in its guidelines and proposes to establish a Federal advisory committee to develop a proposed rule on this subject. The following interest groups are likely to be affected by accessibility guidelines for emergency transportable housing:

• Federal agencies;

• Organizations representing the needs of individuals with disabilities;

• Trade associations;

• Manufacturers and designers of emergency transportable housing;

• State and local governments; and

• voluntary codes and standards groups.

The Board proposes to appoint the following organizations to represent the interests identified above:

• Advocacy Center.

• Coalition for Citizens with Disabilities.

• Department of Housing and Urban Development.

• Department of Justice.

• Federal Emergency Management Agency.

• Manufactured Housing Institute.

• National Council on Independent Living.

• National Fire Protection Association.

• Recreation Park Trailer Industry Association.

• Recreation Vehicle Industry Association.

• United Spinal Association.

Comments are invited on the proposal to establish the advisory committee and the proposed membership. Organizations that will be affected by the accessibility guidelines for emergency transportable housing and who believe that their interests will not be adequately represented by the above organizations may apply for membership on the committee. Applications should include the following information: (1) The name of the organization and the interest that the organization proposes to represent; (2) the reasons why the organizations specified above do not adequately represent the interests that the organization proposes to represent; (3) evidence that the person submitting the application is authorized to represent the organization; and (4) a written commitment that the organization would participate on the committee in good faith. There is no specific application form. See ADDRESSES, above, for information on where and how to submit applications.

To be effective, the size of the committee will be limited. Each organization affected by accessibility guidelines for emergency transportable housing need not have its own representative on the advisory committee. Rather, interests must be adequately represented and the membership must be fairly balanced. After reviewing the comments received in response to this notice and any applications for membership, the Board will issue a notice in the Federal Register announcing the establishment of the committee and the committee membership, unless it is determined based on comments that the establishment of the committee would be inappropriate. The first committee meeting is tentatively scheduled for September 24 and 25, 2007 at the Access Board offices in Washington, DC.

The Board expects the committee to hold no more than three meetings and all meetings will be in the Washington, DC area. The meetings will be open to the public. Future committee meetings will be announced in the Federal Register. The Board will provide staff support to the committee. Members of the committee will not be compensated for their service. The Board may pay travel expenses for a limited number of persons who would otherwise be unable to serve on the committee. Members will not be considered special government employees since they will serve as representatives of their organizations and will not be required to file confidential financial disclosure reports.

Availability of Copies and Electronic Access

Single copies of this publication may be obtained at no cost by calling the Access Board's automated publications order line (202) 272-0080, by pressing 2 on the telephone keypad and then 1. Please record your name, address, city, State, zip code, telephone number and request the emergency transportable housing advisory committee notice. Persons using a TTY should call (202) 272-0082. This document is available in alternate formats upon request. Persons who want this publication in an alternate format should specify the type of format (cassette tape, Braille, large print, or ASCII disk). This document is also available on the Board's Web site (http://www.access-board.gov).

Tricia Mason,
Chair, Architectural and Transportation Barriers Compliance Board.

[FR Doc. E7-12205 Filed 6-22-07; 8:45 am]

BILLING CODE 8150-01-P